DEPARTMENT OF COMMERCE

National Institute of Standards and Technology

Manufacturing Extension Partnership (MEP) Advisory Board

AGENCY: National Institute of Standards and Technology, Department of Commerce.

ACTION: Notice of open meeting.

SUMMARY: National Institute of Standards and Technology (NIST)'s Manufacturing Extension Partnership (MEP) Advisory Board will hold an open meeting on June 27, 2024, from 12:30 p.m. to 5:00 p.m. Eastern Standard Time.

DATES: The MEP Advisory Board will meet on June 27, 2024, from 12:30 p.m. to 5:00 p.m. Eastern Standard Time.

ADDRESSES: The meeting will be held via webinar. Please note participation instructions under the SUPPLEMENTARY INFORMATION section of this notice.

FOR FURTHER INFORMATION CONTACT: Beverly R. Bobb DFO 100 Bureau Drive, M/S 4800, Gaithersburg, MD 20899-4800, 301-975-5197. Ms. Bobb's email address is Beverly.Bobb@nist.gov.

SUPPLEMENTARY INFORMATION: Pursuant to the Federal Advisory Committee Act, as amended, 5 U.S.C. 1001 et seq., notice is hereby given that the MEP Advisory Board will hold an open meeting on the date and time in the DATES section and will be open to the public. The primary purpose of this meeting is to provide the NIST Director with advice on the activities, plans and policies of the Program; assessment of the soundness of the plans and strategies of the Program; and assessment of current performance against the plans of the Program. The agenda may change to accommodate MEP Advisory Board business. The final agenda will be posted on the NIST website at http://www.nist.gov/mep/about/advisory-board.cfm.

Individuals and representatives of organizations who would like to offer comments and suggestions related to the Board's business are invited to request a place on the agenda. Approximately 20 minutes will be reserved for public comments and speaking times will be assigned on a first-come, first-serve basis. The amount of time per speaker will be determined by the number of requests received but is likely to be about three to five minutes each. Questions from the public will not be considered during this period. Speakers who wish to expand upon their oral statements, those who had wished to speak but could not be accommodated on the agenda, and those who were unable to participate are invited to submit written statements by email to mepab@nist.gov.

For participants attending via webinar and/or teleconference, please contact Ms. Bobb at (301) 975-5197 for detailed instructions on how to join the meeting.

Authority: 15 U.S.C 278k(m), as amended, and the Federal Advisory Committee Act, as amended, 5 U.S.C. 1001 et seq.

Alicia Chambers,
NIST Executive Secretariat.

[FR Doc. 2024-11361 Filed 5-22-24; 8:45 am]

BILLING CODE 3510-13-P